DEPARTMENT OF COMMERCE

National Oceanic and Atmospheric Administration

RIN 0648-XC690

Endangered and Threatened Species; Take of Anadromous Fish

AGENCY: National Marine Fisheries Service (NMFS), National Oceanic and Atmospheric Administration (NOAA), Commerce.

ACTION: Notice of receipt and request for comment.

SUMMARY: Notice is hereby given that NMFS has received applications for eight direct take permits, in the form of Hatchery and Genetic Management Plans (HGMPs), pursuant to the Endangered Species Act of 1973, as amended (ESA). The applications are for hatchery programs in Northeast Oregon and southeast Washington portions of the Snake River basin, for the propagation of spring Chinook salmon and steelhead. The proposed permits would expire in 2018. This document serves to notify the public of the availability of the permit applications and an associated draft environmental assessment (EA) for public review, comment, and submission of written data, views, arguments or other relevant information. All comments and other information received will become part of the public record and will be available for review pursuant to section 10(c) of the ESA.

DATES: Comments and other submissions must be received at the appropriate address or fax number (see ADDRESSES) no later than 5:00 p.m. Pacific time on June 24, 2013.

ADDRESSES: Written responses to the application and the draft environmental assessment should be sent to Brett Farman, National Marine Fisheries Services, Salmon Management Division, 1201 NE. Lloyd Boulevard, Suite 1100, Portland, OR 97232. Comments may also be submitted by email to: SnakeHatcheries.nwr@noaa.gov. Include in the subject line of the email comment the following identifier: Comments on NE. Oregon/SE. Washington plans. Comments may also be sent via facsimile (fax) to (503) 872-2737. When commenting on the draft environmental assessment, please refer to the specific page number and line number of the subject of your comment. The documents are available on the Internet at www.nwr.noaa.gov. Requests for copies of the permit applications and draft EA may also be directed to the National Marine Fisheries Services, Salmon Management Division, 1201 NE. Lloyd Boulevard, Suite 1100, Portland, OR 97232. Comments received will also be available for public inspection, by appointment, during normal business hours by calling (503) 230-5418.

FOR FURTHER INFORMATION CONTACT: Brett Farman at (503) 231-6222 or email: brett.farman@noaa.gov.

SUPPLEMENTARY INFORMATION:

Species Covered in This Notice

Chinook salmon (Oncorhynchus tshawytscha): threatened, naturally produced and artificially propagated Snake River spring/summer.

Steelhead (O. mykiss): threatened, naturally produced and artificially propagated Snake River.

Background

Section 9 of the ESA and Federal regulations prohibit the “taking” of a species listed as endangered or threatened. The term “take” is defined under the ESA to mean harass, harm, pursue, hunt, shoot, wound, kill, trap, capture, or collect, or to attempt to engage in any such conduct. NMFS may issue permits to take listed species for any act otherwise prohibited by section 9 for scientific purposes or to enhance the propagation or survival of the affected species, under section 10(a)(1)(A) of the ESA. NMFS regulations governing permits for threatened and endangered species are promulgated at 50 CFR 222.307.

Between October 10, 2010, and July 15, 2011, NMFS received applications, in the form of HGMPs, from the Oregon Department of Fish and Wildlife (ODFW), Washington Department of Fish and Wildlife (WDFW), and U.S. Bureau of Indian Affairs for ESA section 10(a)(1)(A) permits for the direct take of ESA-listed Snake River spring/summer Chinook salmon and ESA-listed Snake River steelhead in order to carry out artificial propagation (hatchery) programs in northeast Oregon and southeast Washington in the Grande Ronde, Tucannon, and Imnaha River basins. An additional application, for operation of the Lookingglass Hatchery spring Chinook salmon program was received from the ODFW in January 2012. The purpose of these programs is to support conservation, as well as harvest in tribal, recreational, and commercial fisheries.

Authority

This notice is provided pursuant to section 10(c) of the ESA. NMFS will evaluate each application, associated documents, and comments submitted thereon to determine whether the applications meet the requirements of section 10(a)(1)(A) of the ESA.

If it is determined that the requirements are met, permits will be issued to ODFW, WDFW, and the BIA for the purpose of carrying out the hatchery programs. NMFS will publish a record of its final action in the Federal Register.

Angela Somma,
Chief, Endangered Species Conservation Division, Office of Protected Resources, National Marine Fisheries Service.

[FR Doc. 2013-12459 Filed 5-23-13; 8:45 am]

BILLING CODE 3510-22-P